DEPARTMENT OF THE INTERIOR

U.S. Geological Survey—Climate Change Science Program (CCSP) Committee on Synthesis and Assessment Product 4.2: Thresholds of Climate Change

AGENCY: U.S. Geological Survey.

ACTION: Notice of meeting.

Committee Name: U.S. Geological Survey—Climate Change Science Program (CCSP) Committee on Synthesis and Assessment Product 4.2: Thresholds of Climate Change.

SUMMARY: This notice is published in accordance with section 9(a) of the Federal Advisory Committee Act of 1972 (Pub. L. 92-643). The U.S. Geological Survey—Climate Change Science Program (CCSP) Committee on Synthesis and Assessment Product 4.2: Thresholds of Climate Change will hold its FACA peer review meeting on January 28-30, 2008 in Denver, CO.

Agenda for the Meeting: The agenda will cover the following: Expert review of SAP 4.2. The review committee will meet to discuss the first draft of SAP 4.2 and provide guiding comments for the completion of the product.

DATES: January 28, 2008, 1 p.m.-January 30, 2008, 12 noon. Location: Denver Federal Center, Building 810, Hayden Room.

FOR FURTHER INFORMATION CONTACT: Colleen W. Charles, U.S. Geological Survey, 12201 Sunrise Valley Drive, MS 301, Reston, Virginia 20192; 703-648-4110. Colleen_charles@usgs.gov.

Dated: January 9, 2008.
Robert C. Szaro,
Chief Scientist for Biology.

[FR Doc. 08-102 Filed 1-14-08; 8:45 am]

BILLING CODE 4311-AM-M